DEPARTMENT OF THE INTERIOR

Geological Survey

[GX16EN05ESB0500]

Agency Information Collection Activities: Request for Comments

AGENCY: U.S. Geological Survey (USGS), Interior.

ACTION: Notice of a new information collection, Are literature searches finding your publications?

SUMMARY: We (the U.S. Geological Survey) will ask the Office of Management and Budget (OMB) to approve the information collection (IC) described below. As required by the Paperwork Reduction Act (PRA) of 1995, and as part of our continuing efforts to reduce paperwork and respondent burden, we invite the general public and other Federal agencies to take this opportunity to comment on this IC.

DATES: To ensure that your comments are considered, we must receive them on or before February 19, 2016.

ADDRESSES: You may submit comments on this information collection to the Information Collection Clearance Officer, U.S. Geological Survey, 12201 Sunrise Valley Drive MS 807, Reston, VA 20192 (mail); (703) 648-7197 (fax); or gs-info_collections@usgs.gov (email). Please reference `Information Collection 1028-NEW, Are literature searches finding your publications? in all correspondence.

FOR FURTHER INFORMATION CONTACT: Abigail Lynch, Research Fish Biologist, at (703) 648-4097 or ajlynch@usgs.gov.

SUPPLEMENTARY INFORMATION:

I. Abstract

Inland fisheries are especially vulnerable to the impacts of climate change at a global scale; although inland fish are vital to ecosystem health and function and provide invaluable ecosystem services to communities worldwide, much research remains to be done. Researchers have been projecting and documenting impacts of climate change on fisheries since the 1980s; thus, there is a large body of literature available online. Traditional search engines provide large outputs of studies and reports that must be individually screened for relevance when searching for climate change effects on fisheries. This large output could result in the exclusion of some studies in analyses of the effects of climate change on inland fisheries. Our goal is to compare traditional literature search methods with using a network of fisheries professionals to identify relevant climate change and fisheries studies to determine if both methods yield similar or dissimilar results.

We plan to query research scientists belonging to major professional fisheries societies via electronic correspondence and request a list of their already published references to include in the collection. We are specifically looking for published studies addressing projected and documented effects of climate change on fisheries. The information will be used to generate a scientific manuscript. The only Personal Identifiable Information we will collect is the scientist's name. Our information collection request directly aligns to the mission of the USGS National Climate Change and Wildlife Science Center (NCCWSC). One of NCCWSC's goals is to deliver products, information, and tools to scientists and stakeholders on climate change and wildlife science, and the resulting manuscript aligns with these goals.

II. Data

OMB Control Number: 1028-NEW.

Title: Are literature searches finding your publications?

Type of Request: New information collection.

Affected Public: English-speaking research scientists.

Respondent's Obligation: None. Participation is strictly voluntary.

Frequency of Collection: One time.

Estimated Annual Number of Respondents: 100. Respondents will be made up of mostly academics (i.e., university professors). Some will have federal affiliations.

Estimated Total Number of Annual Responses: 100.

Estimated Time per Response: 5 minutes per response.

Estimated Annual Burden Hours: 8.3 hours.

Estimated Reporting and Recordkeeping “Non-Hour Cost” Burden: None.

III. Request for Comments

We are soliciting comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that we will be able to do so.

Shawn Carter,
Senior Scientist, National Climate Change and Wildlife Science Center.

[FR Doc. 2015-31983 Filed 12-18-15; 8:45 am]

BILLING CODE 4338-11-P